DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of April 16 through April 27, 2007.

In order for an affirmative determination to be made for workers of a primary firm and a certification issued regarding eligibility to apply for worker adjustment assistance, each of the group eligibility requirements of Section 222(a) of the Act must be met.

I. Section (a)(2)(A), all of the following must be satisfied:

A. a significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B), both of the following must be satisfied:

A. a significant number or proportion of the workers in such workers' firm, or an appropriate subdivision of the firm, have become totally or partially separated, or are threatened to become totally or partially separated;

B. there has been a shift in production by such workers' firm or subdivision to a foreign country of articles like or directly competitive with articles which are produced by such firm or subdivision; and

C. One of the following must be satisfied:

1. the country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) either—

(A) the workers' firm is a supplier and the component parts it supplied for the firm (or subdivision) described in paragraph (2) accounted for at least 20 percent of the production or sales of the workers' firm; or

(B) a loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-61,126; U.S. Axle, Inc., On-Site Leased Workers of Volt Services Group, Pottstown, PA: March 5, 2006

The following certifications have been issued. The requirements of Section 222(a)(2)(B) (shift in production) of the Trade Act have been met.

TA-W-61,212; Motorcar Parts of America, Inc., Perfecto Staffing, Team, Priority, Accountemps, City, Torrance, CA: March 27, 2006

The following certifications have been issued. The requirements of Section 222(b) (supplier to a firm whose workers are certified eligible to apply for TAA) of the Trade Act have been met.

NONE

The following certifications have been issued. The requirements of Section 222(b) (downstream producer for a firm whose workers are certified eligible to apply for TAA based on increased imports from or a shift in production to Mexico or Canada) of the Trade Act have been met.

NONE

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-60,946; Safer Pigment Corporation, A Subsidiary of Safer Holding Corp., Newark, NJ: February 7, 2006

TA-W-60,946A; Safer Textiles Processing Corporation, A Subsidiary of Safer Holding Corp., Newark, NJ: February 7, 2006

TA-W-60,946B; Safer Paper and Transfer Printing Corporation, A Subsidiary of Safer Holding Corp., Newark, NJ: February 7, 2006

TA-W-60,999; Dispatch Printing Company, Columbus Dispatch Division (The), Columbus, OH: February 5, 2006

TA-W-61,041; Collins & Aikman, Port Huron Operations Division, Port Huron, MI: February 27, 2006

TA-W-61,100; Performance Sports Apparel, Inc., Reading, PA: March 12, 2006

TA-W-61,133; Foundation Works, Inc., Cottage Grove, OR: March 14, 2006

TA-W-61,143; Van Dorn Demag Corp, Demag Plastics Group (Formerly Van Dorn Service Corp.), Strongville, OH: March 9, 2006

TA-W-60,975; Elliss Technologies LLC, Sterling Heights, MI: February 14, 2006

TA-W-60,977; Ward Manufacturing, Inc., Blossburg, PA: February 14, 2006

TA-W-61,022; Mid Continent Nail Corporation, A Subsidiary of Libla Industries, Inc., Radford, VA: February 23, 2006

TA-W-61,065; Freight Car America, A Subsidiary of Johnstown America, Johnstown, PA: March 5, 2006

TA-W-61,068; Microfibers, Inc, Pawtucket Division, Pawtucket, RI: March 5, 2006

TA-W-61,072; Jefferson City Manufacturing, Inc., Jefferson City, MO: March 6, 2006

TA-W-61,107; Boise Cascade LLC, Paper Division,Vancouver, WA: March 12, 2006

TA-W-61,112; Modine Manufacturing Company, Automotive Division, Clinton, TN: March 13, 2006

TA-W-61,119; Northcutt Woodworks, L.P., Crockett, TX: March 13, 2006

TA-W-61,124; Top-Flite Golf Co. (The), Callaway Golf, Johnson & Hill, Reliable & Career, Chicopee, MA: October 26, 2006

TA-W-61,132; John Dusenbery Company, Inc., Randolph, NJ: March 16, 2006

TA-W-61,154; Quaker Narrow Fabrics, Milton, PA: March 19, 2006

TA-W-61,171; Athol Manufacturing Co., A Division of Sandusky Athol International, Butner, NC: March 22, 2006

TA-W-61,191; Collins & Aikman Products Co, Fabrics Division, Roxboro, NC: March 23, 2006

TA-W-61,216; Broyhill Furniture Industries, Inc., Pacemaker Furniture Company, Lenior, NC: December 23, 2006

TA-W-61,283; IBM Corporation, Workers On-Site at Dana Corporation, Seating Products, Fulton, KY: April 10, 2006

TA-W-61,222; Good Companion Sewing Co., San Francisco, CA: March 30, 2006

TA-W-61,302; TDS/US Automotive, A Subsidiary of TDS Logistics, Chesapeake, VA: March 28, 2006

The following certifications have been issued. The requirements of Section 222(a)(2)(B) (shift in production) and Section 246(a)(3)(A)(ii) of the Trade Act have been met.

TA-W-60,866; Wolverine World Wide, Rockford, MI: January 29, 2006

TA-W-61,091; Esselte Corporation, Leased Workers of People Link Staffing and Trillum Staffing, Kankakee, IL: March 9, 2006

TA-W-61,113; Jabil Circuit, Inc., Including Workers of the Cisco Systems, Q-Logic Assembly Lines, St. Petersburg, FL: March 13, 2006

TA-W-61,117; Hanes Brands, Inc., Formerly Sara Lee Branded Apparel, Rockingham Plant Division, Rockingham, NC: February 28, 2006

TA-W-61,145; Enhanced Manufacturing Solutions LLC, Amherst Injection Molding Div., SPS Temporary, Amherst, NY: February 28, 2006

TA-W-61,157; Visteon Systems LLC, Climate Control Div./Evaporators, Connersville, IN: March 19, 2006

TA-W-61,157A; Visteon Systems LLC, Climate Control Div./Radiator/Heat Exchange, Connersville, IN: March 19, 2006

TA-W-61,165; Carhartt Inc Autopocket Facility, Autopocket (Sewing) Facility, Madisonville, KY: August 3, 2006

TA-W-61,166; Carhartt Inc, Providence (Sewing) Facility, Providence, KY: March 21, 2006

TA-W-61,192; Arrow Electronics, Inc., Leased Workers of Adecco, Lenexa, KS: March 23, 2006

TA-W-61,218; Hanesbrands, Inc., Winston-Salem, NC: March 29, 2006

TA-W-61,263; Parker Hannifin Corporation, Powertrain Division, Leased Workers of Manpower Temp Services, Iron Gate, VA: April 5, 2006

TA-W-61,264; Sanmina Sci USA, Inc., Backplanes Division, Woburn, MA: April 6, 2006

TA-W-61,314; Tridon, Smyrna, TN: March 19, 2006

TA-W-61,001; Optera Colorado, Inc., A Subsidiary of Magna Donnelly, Longmont, CO: February 16, 2006

TA-W-61,054; Corsair Marine, Inc., Chula Vista, CA: February 28, 2006

TA-W-61,127; ICT, Inc., Calvert City, KY: March 15, 2006

TA-W-61,140; Konica Minolta Graphic Imaging, Glen Cove, NY: March 12, 2006

TA-W-61,167; Photronics, Inc., Allen, TX: March 13, 2006

TA-W-61,187; PointCare Corporation, Subsidiary of Biocare Corporation, San Jose, CA: March 16, 2006

TA-W-61,201; Photronics, Inc., Brookfield, CT: March 23, 2006

TA-W-61,258; Springs Global US, Inc., Formerly Springs Industries, Grace Complex, Lancaster, SC: May 3, 2007

TA-W-61,259; Amtek Gears, Inc., Subsidiary of Amtek Auto Limited, Bay City, MI: April 5, 2006

The following certifications have been issued. The requirements of Section 222(b) (supplier to a firm whose workers are certified eligible to apply for TAA) and Section 246(a)(3)(A)(ii) of the Trade Act have been met.

TA-W-61,094; Pine River Plastics Inc., St. Clair, MI: March 9, 2006

TA-W-61,220; Silberline Mfg. Company, Inc., Decatur, IN Division, Decatur, IN: March 28, 2006

The following certifications have been issued. The requirements of Section 222(b) (downstream producer for a firm whose workers are certified eligible to apply for TAA based on increased imports from or a shift in production to Mexico or Canada) and Section 246(a)(3)(A)(ii) of the Trade Act have been met.

NONE

Negative Determinations for Alternative Trade Adjustment Assistance

In the following cases, it has been determined that the requirements of 246(a)(3)(A)(ii) have not been met for the reasons specified.

The Department has determined that criterion (1) of Section 246 has not been met. Workers at the firm are 50 years of age or older.

NONE

The Department has determined that criterion (2) of Section 246 has not been met. Workers at the firm possess skills that are easily transferable.

TA-W-61,126; U.S. Axle, Inc., On-Site Leased Workers of Volt Services Group, Pottstown, PA

TA-W-61,212; Motorcar Parts of America, Inc., Perfecto Staffing, Team, Priority, Accountemps, City, Torrance, CA:

The Department has determined that criterion (3) of Section 246 has not been met. Competition conditions within the workers' industry are not adverse.

NONE

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-61,142; Alcatel Lucent, System Integration Center, Columbus, OH.

The investigation revealed that criteria (a)(2)(A)(I.B.) (Sales or production, or both, did not decline) and (a)(2)(B)(II.B.) (shift in production to a foreign country) have not been met.

TA-W-60,800; Volvo Trucks North America, A Division of Volvo Group North America, New River Valley Assembly Plant, Dublin, VA.

The investigation revealed that criteria (a)(2)(A)(I.C.) (increased imports) and (a)(2)(B)(II.B.) (shift in production to a foreign country) have not been met.

TA-W-60,662; Irving Forest Products, Pinkham Sawmill Division, Ashland, ME.

TA-W-60,942; Weyerhaeuser Company, Bauman Lumber—Sawmill Division, Lebanon, OR.

TA-W-61,053; Nypro Kentucky, Hazard Division, Hazard, KY.

TA-W-61,057; Bobcat Company, Gwinner, ND.

TA-W-61,078; U.S. Traffic Corporation, A Quixote Company, Santa Fe Spring, CA.

TA-W-61,110; Dent Manufacturing, Inc., Northampton, PA.

TA-W-61,157B; Visteon Systems LLC, Climate Control Div./Modules, Connersville, IN.

TA-W-61,175; Beard Hosiery, Inc., Lenior, NC.

TA-W-61,179; Rebtex Inc., Sommerville, NJ.

TA-W-60,905; General Motors Corporation, GMVM Division, Janesville, WI.

TA-W-61,074; Fleetwood Travel Trailers of Kentucky, Inc., Travel Trailer Division, Campbellsville, KY.

TA-W-61,122; Snap-On Logistics Company, Division of Snap-On Tools Co. LLC, Industrial/Diagnostics Mfg., Johnson City, TN.

TA-W-61,180; Welex Incorporated, Blue Bell, PA.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

TA-W-61,308; Allied Air Enterprises, Bellevue, OH.

The workers' firm does not produce an article as required for certification under Section 222 of the Trade Act of 1974.

TA-W-61,032; Baker Furniture, Grand Rapids, MI.

TA-W-61,153; Lenovo, Americas Sales Operations, Research Triangle Park, NC.

TA-W-61,178; Owens-Illinois, Hayward, CA.

TA-W-61,190; Entronix, Rogers, MN.

TA-W-61,190A; Entronix, Eveleth, MN.

TA-W-61,202; Glenoit LLC/Ex-Cell Home Fashion, Inc., Goldsboro, NC.

TA-W-61,255; Unisys Corporation, Technology Management Center, Blue Bell, PA.

TA-W-61,266; Mortgage Guaranty Insurance Corporation, Concord, CA.

TA-W-61,272; U.S. Borax, Rio Tinto Minerals, Valencia, CA.

The investigation revealed that criteria of Section 222(b)(2) has not been met. The workers' firm (or subdivision) is not a supplier to or a downstream producer for a firm whose workers were certified eligible to apply for TAA.

TA-W-61,012; Avantech Manufacturing, LLC, Formerly Known as Intier Automotive Interiors of America, Mt. Pleasant,TN.

I hereby certify that the aforementioned determinations were issued during the period of April 16 through April 27, 2007. Copies of these determinations are available for inspection in Room C-5311, U.S. Department of Labor, 200 Constitution Avenue, NW., Washington, DC 20210 during normal business hours or will be mailed to persons who write to the above address.

Dated: May 3, 2007.
Ralph DiBattista,
Director, Division of Trade Adjustment Assistance.

[FR Doc. E7-8821 Filed 5-8-07; 8:45 am]

BILLING CODE 4510-FN-P